DEPARTMENT OF LABOR

Occupational Safety and Health Administration

[Docket No. ICR 1218-0180(2004)]

Bloodborne Pathogens Standard; Extension of the Office of Management and Budget's (OMB) Approval of Information-Collection (Paperwork) Requirements

AGENCY: Occupational Safety and Health Administration (OSHA), Labor.

ACTION: Request for public comment.

SUMMARY: OSHA solicits comments concerning its request for an extension of the information-collection requirements contained in the Bloodborne Pathogens Standard (29 CFR 1910.1030). Included in this request are information-collection requirements that are currently approved under OMB control number 1218-0246, Bloodborne Pathogens Standard (Needlestick Safety and Prevention Act).

DATES: Comments must be submitted by the following dates:

Hard Copy: Your comments must be submitted (postmarked or received) by July 6, 2004.

Facsimile and electronic transmission: Your comments must be received by July 6, 2004.

ADDRESSES:

I. Submission of Comments

Regular mail, express delivery, hand-delivery, and messenger service: Submit your comments and attachments to the OSHA Docket Office, Docket No. ICR 1218-0180 (2004), Room N-2625, U.S. Department of Labor, 200 Constitution Avenue, NW., Washington, DC 20210. OSHA Docket Office and Department of Labor hours of operation are 8:15 a.m. to 4:45 p.m., e.s.t.

Fscsimile: If your comments, including any attachments, are 10 pages or fewer, you may fax them to the OSHA Docket Office at (202) 693-1648. You must include the docket number, ICR 1218-0180 (2004), in your comments.

Electronic: You may submit comments, but not attachments, through the Internet at http://ecomments.osha.gov.

II. Obtaining Copies of the Supporting Statement for the Information Collection Request

The Supporting Statement for the Information Collection Request is available for downloading from OSHA's Web site at www.osha.gov. The supporting statement is available for inspection and copying in the OSHA Docket Office, at the address listed above. A printed copy of the supporting statement can be obtained by contacting Todd Owen at (202) 693-2222.

FOR FURTHER INFORMATION CONTACT: Todd Owen, Directorate of Standards and Guidance, OSHA, U.S. Department of Labor, Room N-3609, 200 Constitution Avenue, NW., Washington, DC 20210; telephone (202) 693-2222.

SUPPLEMENTARY INFORMATION:

I. Submission of Comments on This Notice and Internet Access to Comments and Submissions

You may submit comments in response to this document by (1) hard copy, (2) FAX transmission (facsimile), or (3) electronically through the OSHA Web page. Please note you cannot attach materials such as studies or journal articles to electronic comments. If you have additional materials, you must submit three copies of them to the OSHA Docket Office at the address above. The additional materials must clearly identify your electronic comments by name, date, subject and docket number so that we can attach them to your comments. Because of security-related problems, there may be a significant delay in the receipt of comments by regular mail. Please contact the OSHA Docket Office at (202) 693-2350 for information about security procedures concerning the delivery of material by express delivery, hand delivery and messenger service.

II. Background

The Department of Labor, as part of its continuing effort to reduce paperwork and respondent (i.e., employer) burden, conducts a preclearance program to provide the public and Federal agencies with an opportunity to comment on proposed and continuing information-collection requirements in accordance with the Paperwork Reduction Act of 1995 (PRA-95) (44 U.S.C. 3506(c)(2)(A)).

This program ensures that information is in the desired format, reporting burden (time and costs) is minimal, collection instruments are clearly understood, and OSHA's estimate of the information-collection burden is correct. The Occupational Safety and Health Act of 1970 (the “Act”) authorizes information collection by employers as necessary or appropriate for enforcement of the Act or for developing information regarding the causes and prevention of occupational injuries, illnesses, and accidents (29 U.S.C. 657).

Currently the information-collection requirements contained in the Bloodborne Pathogens Standard (29 CFR 1910.1030) are approved by OMB under two separate OMB control numbers. Initially, there was one Information Collection Request (ICR) for the Bloodborne Pathogens Standard titled “Bloodborne Pathogens Standard (29 CFR 1910.1030),” approved under OMB control number 1218-0180. On January 18, 2001, the Agency revised the Bloodborne Pathogens Standard (66 FR 5318) in conformance with the requirements of the Needlestick Safety and Prevention Act (NSPA) (Pub. L. 106-430, Nov. 6, 2000). This revision contained new information-collection requirements including requiring employers who have exposure control plans in accordance with § 1910.1030(c)(1)(iv) to: (a) Review and update such plans to reflect changes in technology that eliminate or reduce exposure to bloodborne pathogens; (b) Document consideration and implementation of appropriate commercially available and effective safe medical devices designed to eliminate or minimize occupational exposure; and (c) Solicit input from non-managerial employees responsible for direct patient care who are potentially exposed to injuries from contaminated sharps in the identification, evaluation, and selection of effective engineering and work practice controls, and to document the solicitation in the Exposure Control Plans.

In addition, the NSPA required employers who currently maintain a log of occupational injuries and illnesses under 29 CFR 1904 to “establish and maintain a sharps injury log for the recording of percutaneous injuries from contaminated sharps. The information in the sharps injury log must be recorded and maintained so that the confidentiality of the injured worker is protected. The log must contain at least the following information: “(A) The type and brand of device involved in the incident; (B) The department or work area where the exposure incident occurred; and (C) An explanation of how the incident occurred.”

These NSPA information-collection requirements were approved in the ICR titled “Bloodborne Pathogens Standard (Needlestick Safety and Prevention Act),” OMB control number 1218-0246. These information-collection requirements are now being incorporated into the existing Bloodborne Pathogens Standard (29 CFR 1910.1030), OMB control number 1218-0180.

The major information-collection provisions currently approved under 1218-0180 require employers to: Develop and maintain exposure control plans; develop a housekeeping schedule; provide employees with HBV vaccinations, as well as post-exposure medical evaluations and follow-ups; provide employees with information and training; maintain medical and training records for specified periods; and provide OSHA, the National Institute for Occupational Safety and Health, employees and their authorized representatives with access to these records. In addition, HIV and HBV research laboratories and production facilities must also adopt or develop, and review at least once a year, a biosafety manual.

III. Special Issues for Comment

OSHA has a particular interest in comments on the following issues:

—Whether the proposed information-collection requirements are necessary for the proper performance of the Agency's functions, including whether the information is useful;

—The accuracy of the Agency's estimate of the burden (time and costs) of the information-collection requirements, including the validity of the methodology and assumptions used;

—The quality, utility, and clarity of the information collected; and

—Ways to minimize the burden on employers who must comply; for example, by using automated or other technological information-collection and -transmission techniques.

IV. Proposed Actions

OSHA is incorporating the “Bloodborne Pathogens Standard (Needlestick Safety and Prevention Act)” information-collection requirements into the Bloodborne Pathogens Standard (29 CFR 1910.1030), OMB Control number 1218-0180. The total burden for the Bloodborne Pathogens Standard is 14,071,556 hours. This is an increase of 115,730 hours from the existing total of 13,955,826 hours for the two separate ICRs of 13,955,826 hours. The Bloodborne Pathogens Standard (29 CFR 1910.1030) totals 12,719,062 hours and Bloodborne Pathogens Standard (Needlestick Safety and Prevention Act) totals 1,236,764 hours. The increase is primarily the result of increasing the number of establishments contained in the ICR.

OSHA will summarize the comments submitted in response to this notice, and will include this summary in the request to OMB to extend the approval of the information-collection requirements.

Type of Review: Extension of currently approved information-collection requirements.

Title: Bloodborne Pathogens Standard (29 CFR 1910.1030).

OMB Number: 1218-0180.

Affected Public: Business or other for-profit organizations; Not-for-profit institutions; Federal, State, local, or tribal governments.

Number of Respondents: 630,021.

Frequency: On occasion.

Average Time per Response: Varies from 5 minutes (.08 hour) to maintain records to 1.5 hours for employees to receive training or medical evaluations.

Responses: 7,362,173.

Estimated Total Burden Hours: 14,071,556.

Estimated Cost (Operation and Maintenance): $27,373,738.

V. Authority and Signature

John L. Henshaw, Assistant Secretary of Labor for Occupational Safety and Health, directed the preparation of this notice. The authority for this notice is the Paperwork Reduction Act of 1995 (44 U.S.C. 3506) and Secretary of Labor's Order No. 5-2002 (67 FR 65008).

Signed at Washington, DC, on May 3, 2004.
John L. Henshaw,
Assistant Secretary of Labor.

[FR Doc. 04-10468 Filed 5-6-04; 8:45 am]

BILLING CODE 4510-26-M